DEPARTMENT OF TRANSPORTATION

Surface Transportation Board

[STB Finance Docket No. 34086]

The Columbia and Cowlitz Railway Company—Trackage Rights Exemption—The Burlington Northern and Santa Fe Railway Company

The Burlington Northern and Santa Fe Railway Company (BNSF) has agreed to grant temporary overhead trackage rights to The Columbia and Cowlitz Railway Company (CLC) over BNSF's line between Rocky Point, WA (BNSF milepost 95.8), and Longview, WA (BNSF milepost 101.1), a distance of 5.3 miles.

The parties reported that they intended to consummate the transaction on August 31, 2001. The earliest the transaction could have been consummated was September 3, 2001, the effective date of the exemption (7 days after the notice of exemption was filed).¹ The temporary trackage rights are to allow CLC to bridge its train service while CLC's main line is out of service due to structural maintenance and are scheduled to expire on March 1, 2002, pursuant to contractual terms.²

¹ Counsel for CLC was contacted by telephone and acknowledged that the transaction could not be consummated until September 3, 2001.

² Counsel for CLC has indicated that a petition for exemption under 49 U.S.C. 10502 requesting that the Board permit the proposed temporary overhead trackage rights arrangement described in the present proceeding to expire on March 1, 2002, will be filed in the very near future.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34086 must be filed with the Surface Transportation Board, Office of the Secretary, Case Control Unit, 1925 K Street, NW, Washington, DC 20423-0001. In addition, one copy of each pleading must be served on Stephen L. Day, Esq., Betts Patterson Mines, P.S., One Convention Place, 701 Pike Street, Suite 1400, Seattle, WA 98101.

Board decisions and notices are available on our website at www.stb.dot.gov.

Decided: September 10, 2001.
By the Board, David M. Konschnik, Director, Office of Proceedings.
Vernon A. Williams,
Secretary.

[FR Doc. 01-23241 Filed 9-17-01; 8:45 am]

BILLING CODE 4915-00-P